DEPARTMENT OF TRANSPORTATION

Federal Motor Carrier Safety Administration

[Docket No. FMCSA-2007-0016]

Agency Information Collection Activities; Revision of an Approved Information Collection: Hazardous Materials Safety Permits (Formerly Hazardous Materials Permit)

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This information collection concerns the requirement that companies holding permits for transporting certain hazardous materials to develop a communications plan that allows for the periodic tracking of the shipment. A record of the communications may be kept by either the driver (e.g., recorded in the log book) or the company that contains the time of the call and location of the shipment. These records must be kept, either physically or electronically, for at least six months at the company's principal place of business or readily available to employees at the company's principal place of business. On July 20, 2007, FMCSA published a Federal Register notice allowing for a 60-day comment period on the ICR. One comment was received.

DATES: Please send your comments by November 26, 2007. OMB must receive your comments by this date in order to act quickly on the ICR.

ADDRESSES: All comments should reference Docket No. FMCSA-2007-0016. You may submit comments to the Office of Information and Regulatory Affairs, Office of Management and Budget, 725 Seventeenth Street, NW., Washington, DC 20503, Attention: DOT/FMCSA Desk Officer.

FOR FURTHER INFORMATION CONTACT: Mr. James O. Simmons, Hazardous Materials Division, phone (202) 366-6121; FAX (202) 366-3921; or e-mail james.simmons@dot.gov; Federal Motor Carrier Safety Administration, DOT, 1200 New Jersey Avenue, SE., Washington, DC 20590. Office hours are from 8 a.m. to 4:30 p.m. EST, Monday through Friday, except Federal Holidays.

SUPPLEMENTARY INFORMATION:

Title: Hazardous Materials Safety Permits (formerly Hazardous Materials Permit).

OMB Control Number: 2126-0030.

Type of Request: Revision of a currently approved collection.

Respondents: Motor Carriers; Drivers.

Estimated Number of Respondents: 2,515 motor carriers of property (Forms MCS-150B).

Estimated Time per Response: 5 minutes. The communication between motor carriers and their drivers must take place at least two times per day and it is estimated that it will take 5 minutes to maintain a daily communication record for each driver.

Expiration Date: October 31, 2007.

Frequency of Response: On occasion. The changes will occur at the time of renewal, update or change of information.

Estimated Total Annual Burden: 130,780 hours. 52 annual hours per carrier [5 minutes/60 minutes per trip × 1,570,391 estimated annual trips for carriers/2,515 carriers = 52 hours]. 130,780 total annual burden hours [52 annual hours per carrier × 2,515 carriers = 130,780 hours].

Background: The Secretary of Transportation (Secretary) is responsible for implementing regulations to issue safety permits for transporting certain hazardous materials in accordance with 49 U.S.C. 5101 et seq. The HM Safety Permit regulations (49 CFR part 385) require carriers to complete a “Combined Motor Carrier Identification Report and HM Safety Permit Application”—form number MCS-150B. The HM Safety Permit regulations also require carriers to have a security program. As part of the HM Safety Permit regulations, carriers are required to develop and maintain route plans so that law enforcement officials can verify the correct location of the HM shipment. FMCSA requires companies holding permits to develop a communications plan that allows for the periodic tracking of the shipment. This information collection covers the records of the communications that contain the time of the call and location of the shipment. The records may be kept by either the driver (e.g., recorded in the log book) or the company. These records must be kept, either physically or electronically, for at least six months at the company's principal place of business or readily available to employees at the company's principal place of business.

On July 20, 2007, (72 FR 39878) FMCSA published a Federal Register notice allowing for a 60-day comment period on the proposed revision of this ICR. One comment was received from a motor carrier that asked the Agency to consider exempting drivers of trucks equipped with satellite tracking and monitoring systems from the requirement to call in. The commenter did not discuss the revised burden hours and costs aspects of the Hazardous Materials Safety Permits information collection.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Terry Shelton,
Associate Administrator for Research and Information Technology.

[FR Doc. E7-20975 Filed 10-24-07; 8:45 am]

BILLING CODE 4910-EX-P